DEPARTMENT OF ENERGY

Federal Energy Regulatory Commission

Combined Notice of Filings #1

Take notice that the Commission received the following exempt wholesale generator filings:

Docket Numbers: EG19-142-000.

Applicants: Mesquite Star Special, LLC.

Description: Self-Certification of EG of Mesquite Star Special, LLC.

Filed Date: 6/25/19.

Accession Number: 20190625-5141.

Comments Due: 5 p.m. ET 7/16/19.

Docket Numbers: EG19-143-000.

Applicants: Hancock County Wind, LLC.

Description: Notice of Self-Certification of Exempt Wholesale Generator Status of Hancock County Wind, LLC.

Filed Date: 6/25/19.

Accession Number: 20190625-5192.

Comments Due: 5 p.m. ET 7/16/19.

Docket Numbers: EG19-144-000.

Applicants: Stanton Energy Reliability Center, LLC.

Description: Self-Certification of EWG Status of Stanton Energy Reliability Center, LLC.

Filed Date: 6/26/19.

Accession Number: 20190626-5039.

Comments Due: 5 p.m. ET 7/17/19.

Take notice that the Commission received the following electric rate filings:

Docket Numbers: ER10-3145-012; ER19-1473-001; ER10-3116-012; ER19-1179-001;ER13-1544-009; ER10-3120-012;ER19-1474-001; ER19-1597-001;ER11-2036-012; ER16-930-006; ER10-3128-012;ER10-1800-013; ER10-3136-012; ER11-2701-014; ER10-1728-012; ER15-1582-015; ER15-1579-014; ER15-1914-016; ER16-1255-013; ER16-2201-009; ER16-1955-010; ER19-846-003; ER18-1667-003; ER17-1864-008; ER17-1871-008; ER17-1909-008; ER17-544-009; ER17-306-009; ER16-1738-010; ER16-474-011; ER16-1901-010; ER16-468-010; ER18-2492-004; ER16-1609-006; ER15-2679-012; ER16-2578-010; ER16-2541-009; ER18-2327-002; ER19-847-003; ER15-2680-012; ER15-762-016; ER16-2224-009; ER16-890-011; ER15-760-015; ER16-1973-010; ER16-1956-010.

Applicants: AES Alamitos, LLC, AES Alamitos Energy, LLC, AES Energy Storage, LLC, AES ES Gilbert, LLC, AES ES Tait, LLC, AES Huntington Beach, L.L.C., AES Huntington Beach Energy, LLC, AES Integrated Energy, LLC, AES Laurel Mountain, LLC, AES Ohio Generation, LLC, AES Redondo Beach, L.L.C., Indianapolis Power & Light Company, Mountain View Power Partners, LLC, Mountain View Power Partners IV, LLC, The Dayton Power and Light Company, 65HK 8me LLC, 67RK 8me LLC, 87RL 8me LLC, Antelope Big Sky Ranch LLC, Antelope DSR 1, LLC, Antelope DSR 2, LLC, Antelope DSR 3, LLC, Antelope Expansion 2, LLC, Bayshore Solar A, LLC, Bayshore Solar B, LLC, Bayshore Solar C, LLC, Beacon Solar 1, LLC, Beacon Solar 3, LLC, Beacon Solar 4, LLC, Central Antelope Dry Ranch C LLC, FTS Master Tenant 1, LLC, FTS Master Tenant 2, LLC, ID Solar 1, LLC, Latigo Wind Park, LLC, North Lancaster Ranch LLC, Pioneer Wind Park I LLC, Riverhead Solar Farm, LLC, San Pablo Raceway, LLC, Sandstone Solar LLC, Sierra Solar Greenworks LLC, Solverde 1, LLC, Summer Solar LLC, Western Antelope Blue Sky Ranch A LLC, Western Antelope Blue Sky Ranch B LLC, Elevation Solar C LLC, Western Antelope Dry Ranch LLC.

Description: Triennial Market Power Analysis of the AES MBR Affiliates for the Southwest Region.

Filed Date: 6/25/19.

Accession Number: 20190625-5214.

Comments Due: 5 p.m. ET 8/26/19.

Docket Numbers: ER11-2211-010; ER11-2209-010; ER11-2210-010; ER11-2207-010; ER11-2206-010; ER13-1150-008; ER13-1151-008; ER11-2855-024; ER18-814-001; ER11-3727-016; ER12-1711-016; ER19-672-001; ER11-2856-024; ER19-1061-001; ER19-1062-001; ER19-843-001; ER19-1063-001; ER19-844-001; ER11-2857-024; ER10-2381-009.

Applicants: Alta Wind I, LLC, Alta Wind II, LLC, Alta Wind III, LLC, Alta Wind IV, LLC, Alta Wind V, LLC, Alta Wind X, LLC, Alta Wind XI, LLC, Avenal Park LLC, Carlsbad Energy Center LLC, El Segundo Energy Center LLC, High Plains Ranch II, LLC, Marsh Landing LLC, Sand Drag LLC, Solar Alpine LLC, Solar Avra Valley LLC, Solar Blythe LLC, Solar Borrego I LLC, Solar Roadrunner LLC, Sun City Project LLC, Walnut Creek Energy, LLC.

Description: Updated Market Power Analysis for the Southwest Region of the Clearway Group Sellers.

Filed Date: 6/25/19.

Accession Number: 20190625-5106.

Comments Due: 5 p.m. ET 8/26/19.

Docket Numbers: ER18-2085-002

Applicants: Cambria CoGen Company.

Description: Compliance filing: Settlement Compliance Filing—Cambria CoGen Reactive Supply Service to be effective 9/1/2018.

Filed Date: 6/25/19.

Accession Number: 20190625-5097.

Comments Due: 5 p.m. ET 7/16/19.

Docket Numbers: ER19-2226-001.

Applicants: Public Service Company of Colorado.

Description: Tariff Amendment: PSC-CSU-A&R O&M-Jcksn Fllr-395-Amnd Filing to be effective 6/22/2019.

Filed Date: 6/25/19.

Accession Number: 20190625-5107.

Comments Due: 5 p.m. ET 7/16/19.

Docket Numbers: ER19-2251-000.

Applicants: Tucson Electric Power Company.

Description: § 205(d) Rate Filing: Rate Schedule No. 325, Line Extension Agreement to be effective 6/14/2019.

Filed Date: 6/26/19.

Accession Number: 20190626-5007.

Comments Due: 5 p.m. ET 7/17/19.

Docket Numbers: ER19-2252-000.

Applicants: Stanton Energy Reliability Center, LLC.

Description: Baseline eTariff Filing: MBR Tariff Authorization to be effective 8/25/2019.

Filed Date: 6/26/19.

Accession Number: 20190626-5013.

Comments Due: 5 p.m. ET 7/17/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 26, 2019.
Nathaniel J. Davis, Sr.,
Deputy Secretary.

[FR Doc. 2019-14091 Filed 7-1-19; 8:45 am]

BILLING CODE 6717-01-P